DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 80 FR 34643-34644, dated June 17, 2015) is amended to reflect the reorganization of the Office of the Director, Centers for Disease Control and Prevention.

Section C-B, Organization and Functions, is hereby amended as follows:

Delete in its entirety the function statements for the Office of Director (CA) and insert the following:

Office of the Director (CA). (l) Manages and directs the activities of the Centers for Disease Control and Prevention (CDC); (2) provides leadership for the implementation of CDC's responsibilities related to disease prevention and control; (3) advises the Assistant Secretary for Health and the Surgeon General on policy matters concerning CDC activities; (4) participates in the development of CDC goals and objectives; (5) provides overall direction and coordination to the epidemiologic activities of CDC; (6) coordinates CDC response to health emergencies; (7) provides liaison with other governmental agencies, international organizations including the World Health Organization and the U.S. Agency for International Development, learning institutions, and other outside groups; (8) coordinates, in collaboration with the Public Health Service (PHS) Office of International Health, international health activities relating to disease prevention and control; (9) in cooperation with PHS Regional Offices, provides or obtains technical assistance for State and local health departments and private and official agencies as needed; (10) provides overall direction to, and coordination of, the scientific/medical programs of CDC; (11) oversees and provides leadership for laboratory science, safety, and quality management; (12) plans, promotes, and coordinates an ongoing program to assure equal employment opportunities in CDC; (13) provides leadership, coordination, and assessment of administrative management activities; (14) coordinates with appropriate PHS staff offices on administrative and program matters; (15) coordinates the consumer affairs activities for CDC; and (16) provides leadership, policy guidance, coordination, technical expertise, and services to promote the development and implementation of the agency's Genomics Program.

After the title and mission statement for CDC Washington Office (CAB), insert the following:

Office of the Associate Director for Laboratory Science and Safety (CAC). In carrying out its mission, the Office of the Associate Director for Laboratory Science and Safety: (1) Provides scientific, technical, and managerial expertise and leadership in the development and enhancement of laboratory safety programs; and (2) oversees and monitors the development, implementation, and evaluation of the laboratory safety and quality management programs across CDC.

Delete in its entirety the function statements for the Office of the Chief of Staff (CAT) and insert the following:

Office of the Chief of Staff (CAT). The Office of the Chief of Staff (OCS) is accountable for providing strategic advice to the Director and ensuring proactive coordination of agency-wide priorities and policies in direct support of CDC's mission. In carrying out its mission, OCS: (1) Serves as the principal advisor to the Director on internal and external affairs of CDC; (2) convenes key leadership for assessment, management, mitigation options, and resolution of issues and initiatives affecting CDC's priorities and goals; (3) provides information to senior management, as necessary, to make timely strategic and operational decisions; (4) assists in assuring that CDC viewpoints are appropriately represented in the decision making process; (5) provides leadership in the resolution of issues that cross organizational lines; (6) assists in determining CDC objectives and priorities; (7) provides a conduit for background information and updates on controversial or sensitive issues that may be raised by CDC Foundation constituents; (8) serves as one of the Director's primary strategic liaisons with staff, partners and the community at large, strengthening and expanding priority business partnerships and strategic engagements; and (9) represents the Office of the Director (OD) on any council or CDC peer organizations on management and operational matters.

Office of the Director (CAT1). (1) Directs, manages, and coordinates the activities of the OCS; (2) provides executive support for the Immediate Office of the Director; (3) oversees functions of the Meeting and Advance Team Management Activity, and Budget and Operations Management Activity; and (4) develops goals and objectives, provides leadership, policy formation, oversight, and guidance in program planning and development.

Meeting and Advance Team Management Activity (CAT12). (1) Coordinates and manages the Director's schedule, travel, and oversees the development of briefing materials; (2) manages executive and senior level meetings, inclusive of preparing for and conducting leadership meetings and identifying, triaging, supervising and tracking action items stemming from these leadership meetings; (3) oversees all activities related to the Advisory Committee to the Director and its subcommittees and workgroups; (4) coordinates CDC Foundation requests for the Director and senior leadership appearances at board meetings, special events, speaking engagements, and similar external events; and (5) manages OD-level special events and VIP visits.

Budget and Operations Management Activity (CAT13). (1) Interfaces on behalf of the OD with CDC budget and operations personnel on cross-cutting functions; (2) coordinates the development, implementation, tracking (including spending plan), and reporting of OD budget; (3) oversees administrative functions for OD, including strategic recruitment, personnel actions, training and employee development, space requests and allocation, procurement and distribution of equipment and supplies; (4) manages temporary senior staff within OD such as staff on details and Intergovernmental Personnel Actions; (5) reviews request for official reception and representation funds; and (6) organizes plans for safety, security, asset and information management for OD and OCS.

Public Private Partnerships Team (CAT14). (1) Coordinates and furthers strategic partnerships and private sector engagement activities with an emphasis on business sector; (2) serves as a primary point of contact with the CDC Foundation, specifically for coordination and decision support with other pre-established points of contact across CDC; (3) provides an avenue of outreach to the corporate and philanthropic sector about CDC's critical priorities and sponsors/convenes in support of OD; (4) coordinates approval of all draft proposals for new project partnerships involving CDC and the CDC Foundation; and (5) leads conflict of interest review of all gifts offered to the agency.

Division of Issues Management, Analysis and Coordination (CATC)

(1) Identifies and triages issues across OD in collaboration with agency leadership to ensure efficient responses to the Director's priority issues, and helps position CDC to take advantage of emerging opportunities; (2) supports key leadership in assessment, management, mitigation options, and resolution of issues and initiatives affecting CDC's priorities and goals and ensures controlled correspondence responses and reports reflect CDC/ATSDR's priorities and positions on critical public health issues; (3) establishes an environmental scanning system and network throughout CDC to identify urgent and high risk issues and opportunities related to the Director's priorities and coordinates the use of the official CDC/ATSDR controlled correspondence tracking system throughout CDC; (4) convenes teams to assess, analyze, manage and provide mitigation options and resolution of risks; (5) cultivates strong vertical and horizontal relationships to facilitate effective issues management within OD, with the Centers/Institute/Offices (CIOs) and with the Department of Health and Human Services (HHS); (6) communicates findings and status of current and ongoing issues, trends and opportunities to senior leadership, CIOs and HHS through formal advisories, alerts and briefings on key agency issues; (7) serves as the focal point for the analysis, technical review, and final clearance of controlled correspondence, non-scientific policy documents and memoranda of understanding/agreement that require approval from the Director and senior leadership, and for a wide variety of documents that require the approval of various officials within HHS; (8) works in collaboration with other OD offices to build issues management capacity throughout the agency through training and networking with CIO leadership and staff; (9) provides integrated policy analysis and strategic consultation to the Director and senior leadership on major issues affecting CDC; (10) liaises with HHS Office of the Secretary as appropriate on critical issues on behalf of the Chief of Staff and serves as the point of contact with HHS Immediate Office of the Secretary, Executive Secretariat, for status of Secretary's controlled correspondence and review clear of non-scientific documents; (11) provides a forum for OD offices for discussion and decision-making on policy related issues and Director priorities and manages controlled correspondence and clearance of non-scientific documents including the flow of decision documents and correspondence for action by the Director; (12) provides leadership in identifying regulatory priorities and supports development of regulations for the Department and coordinates inspector general and General Accountability Office audit and evaluation engagements related to CDC/ATSDR; (13) tracks and coordinates review of clearance of regulations under development and serves as CDC's point of contact for the Federal Document Management System and maintains all official records relating to the decisions and official actions of the Director; (14) develops and distributes leadership reports, including the White House/HHS Weekly Cabinet Report and weekly situation reports on emerging issues impacting HHS and the White House; (15) manages internal communication for OCS; (16) manages the electronic signature of the Director and other OD executives, ensures consistent application of CDC correspondence standards and styles and ensures agency training and communication updates on the controlled correspondence; and (17) coordinates the activities related to OD liaison officer function during a CDC Emergency Operations Center activation.

James Seligman,
Acting Chief Operating Officer, Centers for Disease Control and Prevention.

[FR Doc. 2015-23636 Filed 9-21-15; 8:45 am]

BILLING CODE 4160-18-P